DEPARTMENT OF AGRICULTURE

Grain Inspection, Packers and Stockyards Administration

Request for Extension and Revision of a Currently Approved Information Collection

AGENCY: Grain Inspection, Packers and Stockyards Administration, USDA.

ACTION: Notice and request for comments.

SUMMARY: This notice announces our intention to request a three year extension and revision of a currently approved information collection in support of the reporting and recordkeeping requirements under the Clear Title program. This approval is required under the Paperwork Reduction Act.

DATES: We will consider comments that we receive by August 2, 2004.

ADDRESSES: We invite you to submit comments on this notice. You may submit comments by any of the following methods:

• E-Mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

Instructions: All comments should make reference to the date and page number of this issue of the Federal Register.

Background Documents: Information collection package and other documents relating to this action will be available for public inspection in the above office during regular business hours.

Read Comments: All comments will be available for public inspection in the above office during regular business hours (7 CFR 1.27(b)).

FOR FURTHER INFORMATION CONTACT: For information regarding the information collection activities and the use of the information, contact Jaime Adams, at (202) 720-0239 or Jaime.C.Adams@usda.gov.

SUPPLEMENTARY INFORMATION: The Grain Inspection, Packers and Stockyards Administration (GIPSA) administers the Clear Title program for the Secretary of Agriculture. The Clear Title program is authorized by Section 1324 of the Food Security Act of 1985 and requires that States implementing central filing system for notification of liens on farm products must have such systems certified by the Secretary of Agriculture. The regulations implementing the Clear Title program are contained in 9 CFR part 205, Clear Title—Protection for Purchasers of Farm Products. Nineteen States currently have certified central filing systems.

Title: “Clear Title” Regulations to implement section 1324 of the Food Security Act of 1985 (7 U.S.C. 1631).

OMB Number: 0580-0016.

Expiration Date of Approval: October 31, 2004.

Type of Request: Extension and revision of a currently approved information collection.

Abstract: The information is needed to carry out the Secretary's responsibility for certifying a State's central filing system under section 1324 of the Food Security Act of 1985. Section 1324 of the Food Security Act of 1985 enables States to establish central filing systems to notify potential buyers, commission merchants, and selling agents of security interests (liens) against farm products. The Secretary of Agriculture has delegated authority to GIPSA for certifying the systems. Nineteen States have certified central filing systems. The purpose of this notice is to solicit comments from the public concerning our information collection.

Estimate of Burden: Public reporting and recordkeeping burden for this collection of information is estimated to be 4 to 40 hours per response (amendments to certified systems require less time, new certifications require more time).

Respondents (Affected Public): States seeking certification of central filing systems to notify buyers of farm products of any mortgages or liens on the products.

Estimated Number of Respondents: 1. (In 1992 and 1993, one State per year was certified; currently, one State's recertification request is pending. Since 1996, at most one State per year has requested an amendment to its certification.)

Estimated Number of Responses per Respondent: 1.

Estimated Total Annual Burden on Respondents: 4-40 hours.

As required by the Paperwork Reduction Act (44 U.S.C. 3506(c)(2)(A)) and its implementing regulations (5 CFR 1320.8(d)(1)(i)), we specifically request comments on:

(a) Whether the proposed collection of information is necessary for the proper performance of the functions of the agency, including whether the information will have practical utility;

(b) the accuracy of the agency's estimate of the burden of the proposed collection of information, including the validity of the methodology and assumptions used;

(c) ways to enhance the quality, utility, and clarity of the information to be collected; and

(d) ways to minimize the burden on the collection of information on those who are to respond, including through the use of appropriate automated, electronic, mechanical, or other technological collection techniques or other forms of information technology.

All responses to this notice will be summarized and included in the request for the Office of Management and Budget approval. All comments will also become a matter of public record.

Authority: 44 U.S.C. 3506 and 5 CFR 1320.8.

Donna Reifschneider,
Administrator, Grain Inspection, Packers and Stockyards Administration.

[FR Doc. 04-12261 Filed 5-28-04; 8:45 am]

BILLING CODE 3410-EN-P